DEPARTMENT OF TRANSPORTATION

Federal Transit Administration

[FTA Docket No. FTA-2005-20763]

Notice of Request for the Extension of Currently Approved Information Collection

AGENCY: Federal Transit Administration, DOT.

ACTION: Notice of request for comments.

SUMMARY: In accordance with the Paperwork Reduction Act of 1995, this notice announces the intention of the Federal Transit Administration (FTA) to request the Office of Management and Budget (OMB) to extend the following currently approved annual information collection and approve the addition of the collection of some monthly data requested by Congress: 49 U.S.C. § 5335(a) and (b) National Transit Database.

DATES: Comments must be submitted before May 31, 2005.

ADDRESSES: All written comments must refer to the docket number that appears at the top of this document and be submitted to the United States Department of Transportation, Central Dockets Office, PL-401, 400 Seventh Street, SW., Washington, DC 20590. All comments received will be available for examination at the above address from 10 a.m. to 5 p.m., e.t., Monday through Friday, except Federal holidays. Those desiring notification of receipt of comments must include a self-addressed, stamped postcard/envelope.

FOR FURTHER INFORMATION CONTACT: Gary Delorme, National Transit Database Manager, Office of Program Management, (202) 366-1652.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. Section 5335(a) and (b) (OMB Number: 2132-0008).

Background: 49 U.S.C. § 5335(a) and (b) require the Secretary of Transportation to maintain a reporting system by uniform categories to accumulate mass transportation financial and operating information and a uniform system of accounts and records. Twenty years ago, the National Transit Database (NTD) was created by Congress to be the repository of transit data for the nation. For FTA, the NTD is an agency mission critical Information Technology (IT) system. Congress created the NTD to provide validated data to determine the allocations for FTA's major formula grant programs. Each year transit authorities that receive FTA funding submit performance data, via the Internet, to the NTD. For the formula funding, they submit data on vehicle miles, fixed-guideway miles, ridership, and operating costs. These performance data are used in statutory formulae to apportion over $4 billion in federal funds back to those agencies across the nation.

In addition, Congress provides much of the investment in the capital infrastructure of transit. The NTD reports to Congress on the level of that investment and the condition and performance of the capital assets funded by Congress. It reports each bus and railcar, the average age of the vehicle fleets, as well as the costs, condition and performance of bus and rail systems. All transit safety and security data is reported to the NTD. Since the 9/11 tragedy, the Department of Homeland Defense receives security incident data from the NTD. The National Transportation Safety Board (NTSB), the Department of Transportation (DOT), and the Government Accounting Office (GAO) use NTD safety data. The Department of Justice and DOT use NTD data for compliance with bus and paratransit provisions of the Americans with Disabilities Act of 1990. The Department of Labor uses NTD employment, hours and wage data. In addition, NTD fuel and engine data is used by the Environmental Protection Agency and the Department of Energy. The Federal Highway Administration incorporates transit financial and highway fixed-guideway (HOV) data in their annual reports. In fact, FTA could not fulfill its annual reporting requirements to Congress under the Government Performance and Results Act (GPRA) without NTD data. In addition, federal, state, and local governments, transit agencies/boards, labor unions, manufacturers, researchers, consultants and universities use the NTD for making transit related decisions. State governments also use the NTD in allocating funds under 49 U.S.C. Section 5307 and use NTD data to prepare annual state transit summaries. The NTD requires that transit costs be reported by mode, such as commuter rail, ferryboat, bus, subway, or light rail. Thus, the NTD is the only accurate national source of data on operating costs by mode. For example, without the NTD, it would be difficult to compare the average operating costs of bus versus light rail. NTD information is essential for understanding cost, ridership and other national performance trends, including transit's share of urban travel. It would be difficult to determine the future structure of FTA programs, to set policy, and to make funding and other decisions relating to the efficiency and effectiveness of the nation's transit operations without the NTD. For many years, OMB has approved the annual information collection under the NTD, as required by statute. Prior to 2002, the NTD received annual summary reports for safety, security and ridership data. In 2002, FTA added the monthly reporting of safety and security data and ridership data to the NTD at the direction of Congress.

New NTD. In the 2000 DOT Appropriations Act, Congress directed FTA to develop a new NTD. In January 2002, a completely new NTD was launched on the Internet. It was completed on time and within budget. The new NTD includes an updated and streamlined version of the annual NTD that OMB has reviewed in the past, but it adds some monthly reporting that OMB has not reviewed. Congress, the DOT and the NTSB wanted monthly reporting of safety and security data. Also, to meet annual GPRA reporting requirements, Congress wanted transit ridership to be reported monthly. Congress provided FTA with the funds to design and program the new NTD. During the two-year development period for this system, Congress required that a panel of experts under the Transportation Research Board (TRB) of the National Academy of Sciences review all NTD data elements. The FTA conducted outreach sessions on revisions to the NTD, prepared reports to Congress, and worked with the TRB panel to reduce unnecessary reporting and reporting burden. As a result, some forms and many data series were eliminated from the annual report.

The new Internet-based system replaced the older diskette system and greatly reduced reporting burden. The new Internet system has pre-submission validation, like Turbo-Tax. Many errors were caught prior to submission. The Internet system eliminated the time consuming mailing back and forth of submission errors to reporters, and re-mailing submission corrections back to FTA. The new annual NTD yielded significant timesavings and reduced reporting burden. In recent surveys, over 75 percent of reporters like the new annual system and find it to be a great improvement and timesavings.

Much of the reduction in burden hours for the annual NTD reports were offset by the increase in time for filing monthly reports in the new NTD. Safety, security and ridership data has always been part of the purview of the NTD. Congress, the NTSB and DOT wanted FTA to generate more detailed, monthly safety data to develop causal factors. The Federal Railroad Administration, the National Highway Traffic Safety Administration and the Federal Aviation Administration report safety and security data monthly. Congress, DOT and the NTSB wanted FTA to harmonize with her sister agencies and provide monthly reports. Monthly reporting has increased reporting time. The net effect of monthly safety, security and ridership data reporting is to offset much of timesavings that the new NTD was able to produce for the annual reports. Total NTD reporting time has dropped only a little.

Respondents: 647 total potential respondents, of which 70 very small systems seek exemptions from filing. Annually, about 577 entities file detailed reports. The respondents are primarily public transit authorities that are agencies of state and local governments. Reporters also include entities under contract to public transit agencies, such as, business or other for-profit institutions, non-profit institutions, and small business organizations.

Estimated Annual Burden on Respondents: 402 hours for each of the 577 respondents.

Estimated Total Annual Burden: 231,954 hours.

Frequency: Primarily annual, with monthly safety, security and ridership reports.

Issued: March 24, 2005.
Ann M. Linnertz,
Deputy Associate Administrator for Administration.

[FR Doc. 05-6202 Filed 3-29-05; 8:45 am]

BILLING CODE 4910-57-P